PEACE CORPS

Privacy Act of 1974; System of Records

AGENCY: Peace Corps.

ACTION: Notice of a modified system of records.

SUMMARY: As required by the Privacy Act of 1974 and the OMB Circular A-108 Federal Agency Responsibilities for Review, Reporting, and Publication under the Privacy Act (December 23, 2016) and Circular A-130, Managing Information as a Strategic Resource, the Peace Corps is publishing notice of a modification of the Peace Corps systems of records notices for the Peace Corps systems of records listed in Table 1 below. Pursuant to OMB Memorandum M-25-32, Preventing Improper Payments and Protecting Privacy Through Do Not Pay (August 20, 2025), and OMB Circular A-136, Financial Reporting Requirements—Revised (July 14, 2025), this Notice amends the Peace Corps General Routine Use List to ensure that the agency can more easily collaborate with the U.S. Department of the Treasury (Department of Treasury) to take action to defend against financial fraud and prevent improper payments.

DATES: This modified system of records notice will become applicable following the end of the public comment period on February 25, 2026.

ADDRESSES: Send written comments, identified by the docket number and title, to the Peace Corps, ATTN: James Olin, FOIA/Privacy Act Officer, 1275 First Street NE, Washington, DC 20526, or by email at pcfr@peacecorps.gov. Email comments must be made in text and not in attachments.

FOR FURTHER INFORMATION CONTACT: James Olin, FOIA/Privacy Act Officer, 1275 First Street NE, Washington, DC 20526; pcfr@peacecorps.gov; or 202-692-2507.

SUPPLEMENTARY INFORMATION: On March 25, 2025, President Trump issued Executive Order (E.O.) 14249, Protecting America's Bank Account Against Fraud, Waste, and Abuse, which requires executive branch agencies to take action to defend against financial fraud and prevent improper payments in collaboration with the Department of the Treasury, the Federal Government's largest financial payment manager. On August 20, 2025, OMB also issued Memorandum M-25-32, “Preventing Improper Payments and Protecting Privacy Through Do Not Pay,” to the heads of all executive departments and agencies. Specifically, OMB Memorandum M-25-32 requires all Senior Agency Officials for Privacy to ensure that their agency's system of records notices include a routine use for the disclosure of information to the Department of the Treasury, when relevant and necessary for identifying, preventing, or recouping improper payments by reviewing payment and award eligibility through the Do Not Pay Working System, to the extent permissible by law. This Notice provides official notice to the public that the agency has added Routine Use O to the Peace Corps' General Routine Use list of systems of records to comply with OMB Memorandum M-25-32. Routine Use O applies specifically to SORNs PC-1, PC-9, P-22 and PC-23, respectively (see Table 1 below). This new routine use will help to ensure that the agency can share data with the Treasury Department's Do Not Pay (DNP) system to verify eligibility and prevent suspected fraud or improper payments and helps protect privacy by integrating privacy safeguards into the DNP initiative.

SYSTEM NAME AND NUMBER:

First, Routine Use O applies and modifies PC-1, PC-9, P-22 and PC-23, respectively (see Table 1 below). Please refer to the specific SORNs in the table to find specific routine uses that are unchanged by this Notice. Second, please refer to the appropriate individual SORN for any additional information unchanged by this Notice.

Table 1
System No. and name | Federal Register, citation(s)
PC-1 Accounts Receivable (Collection of Debts Claims Records) | 65 FR 53772
PC-9 Travel and Transportation Payment | 65 FR 53772
PC-22 Financial Management System (FMS) | 72 FR 25343
PC-23 Health Benefits Program for Peace Corps Volunteers | 65 FR 53772

SECURITY CLASSIFICATION:

The applicable security classification is identified in each notice.

SYSTEM LOCATION:

The applicable location is identified in each notice.

SYSTEM MANAGER(S):

The applicable system manager(s) is identified in each notice.

ROUTINE USES OF RECORDS MAINTAINED IN THE SYSTEM, INCLUDING CATEGORIES OF USERS AND PURPOSES OF SUCH USES:

Routine Use O: To the U.S. Department of the Treasury when disclosure of the information is relevant to review payment and award eligibility through the Do Not Pay Working System for the purposes of identifying, preventing, or recouping improper payments to an applicant for, or recipient of Federal funds, including funds disbursed by a state (meaning a state of the United States, the District of Columbia, a territory or possession of the United States, or a federally recognized Indian tribe) in a state-administered, federally funded program.

This routine use will be added to each SORN as they are updated and republished.

HISTORY:

The SORNs listed previously were last published in the Federal Register (FR), 65 FR 53773, on September 5, 2000, and 72 FR 25343, on May 4, 2007.

Dated: January 22, 2026.
James Olin,
FOIA/Privacy Act Officer.

[FR Doc. 2026-01444 Filed 1-23-26; 8:45 am]

BILLING CODE 6051-01-P